DEPARTMENT OF COMMERCE

National Telecommunications and Information Administration

[Docket No. 0911201414-91414-01]

Public Telecommunications Facilities Program: Closing Date; Catalog of Federal Domestic Assistance

AGENCY: National Telecommunications and Information Administration, U.S. Department of Commerce.

ACTION: Notice of Closing Date for Solicitation of Applications.

SUMMARY: Pursuant to the Further Continuing Appropriations, 2010, Division B of Pub. L. No. 111-88, the National Telecommunications and Information Administration (NTIA), U.S. Department of Commerce, announces the solicitation of applications for planning and construction grants for public telecommunications facilities under the Public Telecommunications Facilities Program (PTFP) for fiscal year (FY) 2010.

DATES: NTIA announces two Closing Dates for the FY 2010 grant round.

All television and nonbroadcast applications must be received at the PTFP office no later than 5:00 p.m., Eastern Standard Time, on February 4, 2010. With the exception of applications for new FM stations filed during the February 2010 Federal Communications Commission (FCC) FM Window, discussed in the next paragraph, all radio applications also must be received at the PTFP office no later than 5:00 p.m., Eastern Standard Time, on February 4, 2010.

Because the FCC will accept applications for new FM facilities only during the period February 19-26, 2010 (“FM Window”), NTIA will provide sufficient time for FM applicants participating in the FM Window to file their PTFP and FCC applications. Completed PTFP applications for projects filed at the FCC during this FM Window must be received at the PTFP office no later than 5:00 p.m., Eastern Standard Time, on February 26, 2010.

Applications submitted by facsimile are not acceptable. If an application is received after the Closing Date due to (1) carrier error, when the carrier accepted the package with a guarantee for delivery by the Closing Date and Closing Time, (2) significant weather delays or natural disasters, or (3) delays due to national security issues, NTIA will, upon receipt of proper documentation, consider the application as having been received by the deadline. NTIA will not accept applications posted on the Closing Date or later and received after these deadlines.

ADDRESSES: To obtain a printed application package, submit completed applications, or send any other correspondence, write to PTFP at the following address: NTIA/PTFP, Room H-4812, U.S. Department of Commerce, 1401 Constitution Avenue, NW, Washington, DC 20230. Application materials may be obtained electronically via the Internet at www.ntia.doc.gov/ptfp or www.Grants.gov.

FOR FURTHER INFORMATION CONTACT: William Cooperman, Director, Public Broadcasting Division, telephone: (202) 482-5802; fax: (202) 482-2156. Information about the PTFP also can be obtained electronically via the Internet at www.ntia.doc.gov/ptfp.

SUPPLEMENTARY INFORMATION:

Electronic Access

The Federal Funding Opportunity (FFO) announcement for the PTFP FY 2010 grant cycle is available through www.Grants.gov or by viewing the PTFP Internet site at www.ntia.doc.gov/ptfp. Applicants are strongly encouraged to read the FFO and the programmatic regulations at 15 CFR Part 2301 to obtain further information and instructions on the application requirements for the program.

Statutory and Regulatory Authority

The PTFP is authorized by the Communications Act of 1934, as amended, 47 U.S.C. §§ 390-393, 397-399(b). The PTFP operates pursuant to rules (1996 Rules), which were published on November 8, 1996 (61 FR 57966). Copies of the 1996 Rules (15 CFR pt. 2301) are posted on the NTIA Internet site at www.ntia.doc.gov/ptfp/Rules/currentrules.htm, and NTIA will make printed copies available to applicants upon request.

Program Information

The PTFP assists, through matching grants, in the planning and construction of public telecommunications facilities in order to: (1) extend delivery of services to as many citizens as possible by the most cost-effective means, including use of broadcast and nonbroadcast technologies; (2) increase public telecommunications services and facilities available to, operated by, and controlled by minorities and women; and (3) strengthen the capability of existing public television and radio stations to provide public telecommunications services to the public.

The PTFP funds the construction of new public radio and television stations and new nonbroadcast public telecommunications facilities; the digital conversion of public radio and television stations; and the replacement of equipment at public radio and television stations. A description of the 112 projects awarded during the FY 2009 PTFP grant round may be found on the Internet at www.ntia.doc.gov/ptfp/Projects/2009/index.htm.

Funding Availability

Issuance of grants is subject to the availability of FY 2010 funds. At this time, the Congress has passed the Further Continuing Appropriations, 2010, to fund operations of the PTFP through December 18, 2009. Further notice will be made in the Federal Register about the final status of funding for this program at the appropriate time. For FY 2009, NTIA awarded $19.4 million in PTFP funds to 111 projects, including 63 radio awards, 47 television awards, and one nonbroadcast award. The radio awards ranged from $7,556 to $322,364. The television awards ranged from $5,122 to $731,924. One nonbroadcast award was made for $50,142.

Supplemental Policies

The following supplemental policies are discussed in the FFO and will be in effect during the FY 2010 grant cycle:

A) Section 2301.10 of the PTFP Final Rules provides for submission of applications resulting from catastrophic damage or emergency situations. NTIA would like to clarify its implementation of this provision. For FY 2010 PTFP applicants, when an eligible broadcast applicant suffers catastrophic damage to the basic equipment essential to its continued operation as a result of a natural or manmade disaster, or as the result of significant equipment failure, and is in dire need of assistance in funding replacement of the damaged equipment, it may file an emergency application for PTFP funding at any time.

B) For FY 2010 PTFP applications, since there is no potential for terrestrial interference with Ku-band satellite uplinks, applicants may submit applications to the FCC for Ku-band satellite uplinks after a PTFP award is made. Grant recipients for Ku-band satellite uplinks will be required to document receipt of FCC authorizations to operate the uplink prior to the release of Federal funds. NTIA may accept FCC authorizations that are in the name of an organization other than the PTFP applicant.

C) PTFP applicants are not required to submit copies of their PTFP applications to the FCC, nor are they required to submit copies of the FCC transmittal cover letters as part of their PTFP applications. Many distance learning applications propose projects that are nationwide in nature. NTIA, therefore, believes that the requirement to provide a summary copy of the application to every state telecommunications agency in a potential service area is unduly burdensome to applicants. PTFP applicants for distance learning projects must notify the state telecommunications agencies in the states in which they are located, but they are not required to notify every state telecommunications agency in a potential service area.

D) For digital television conversion projects, NTIA has created two new Subpriorities — Subpriority A (Transmission Equipment) and Subpriority B, (Master Control and Production Equipment; Translators) in the Broadcast Other category.

E) For digital radio conversion projects, NTIA has created a new Subpriority — Subpriority C, Radio Digital Conversion, in the Broadcast Other category.

Catalog of Domestic Federal Assistance

11.550, Public Telecommunications Facilities Program.

Eligibility

To apply for and receive a PTFP Construction Grant or Planning Grant, an applicant must be: (a) a public or noncommercial educational broadcast station; (b) a noncommercial telecommunications entity; (c) a system of public telecommunications entities; (d) a non-profit foundation, corporation, institution, or association organized primarily for educational or cultural purposes; or (e) a state, local, or Indian tribal government (or agency thereof), or a political or special purpose subdivision of a state.

Evaluation and Selection Process

See 15 CFR § 2301.16 for a description of the Technical Evaluation and 15 CFR § 2301.18 for the Selection Process.

Evaluation Criteria

See 15 CFR § 2301.17 for a full description of the Evaluation Criteria. The six evaluation criteria are: 1) Applicant Qualifications; 2) Financial Qualifications; 3) Project Objectives; 4) Urgency; 5) Technical Qualifications (construction applicants only) or Planning Qualifications (planning applicants only); and 6) Special Consideration.

Funding Priorities and Selection Factors

See 15 CFR § 2301.4 and the supplemental policies above for a description of the PTFP Priorities and 15 CFR § 2301.18 for the Selection Factors.

Cost Sharing Requirements

PTFP requires cost sharing. By statute, PTFP cannot fund a construction project for more than 75 percent of the eligible project costs. NTIA has established a policy of funding most new public broadcasting station activation projects at a 75 percent Federal share, and most other television, radio and nonbroadcast projects at a 50 percent Federal share. NTIA can fund planning applications up to 100 percent of the eligible project costs, but has established a policy of funding planning applications at a 75 percent Federal share. Any applicant can request Federal funding greater than PTFP's policy, up to the statutory maximum, and provide justification for the request.

Intergovernmental Review

PTFP applications are subject to Executive Order 12372, “Intergovernmental Review of Federal Programs,” if the state in which the applicant organization is located participates in the process. Usually, submission to the State Single Point of Contact (SPOC) needs to be only the SF 424 and PTFP-2 pages of the application, but applicants should contact their own SPOC offices to find out about and comply with its requirements. The PTFP Internet site has a link to the Office of Management and Budget (OMB) home page that has the names and addresses of the SPOC offices. Applicants may directly access the OMB Internet site at www.whitehouse.gov/omb/grants/spoc.html.

Universal Identifier

All applicants (nonprofit, state, local government, universities, and tribal organizations) will be required to provide a Dun and Bradstreet Data Universal Numbering System (DUNS) number during the application process. See the October 30, 2002 (67 FR 66177), and April 8, 2003 (68 FR 17000), Federal Register notices for additional information. Organizations can receive a DUNS number at no cost by calling the dedicated toll-free DUNS Number request line 1-866-705-5711 or via the Internet at www.fedgov.dnb.com/webform.

The Department of Commerce Pre-Award Notification Requirements for Grants and Cooperative Agreements

The Department of Commerce Pre-Award Notification of Requirements for Grants and Cooperative Agreements contained in the Federal Register notice of February 11, 2008 (73 FR 7696) is applicable to this solicitation.

Limitation of Liability

In no event will the Department of Commerce be responsible for proposal preparation costs if this program fails to receive funding or is cancelled because of other agency priorities. Publication of this announcement does not obligate the agency to award any specific project or to obligate any available funds.

Paperwork Reduction Act

Notwithstanding any other provision of the law, no person is required to respond to, nor shall any person be subject to a penalty for failure to comply with, a collection of information subject to the requirements of the Paperwork Reduction Act (PRA), unless that collection displays a currently valid OMB control number. The PTFP application form has been cleared under OMB Control No. 0660-0003.

Executive Order 13132

It has been determined that this notice does not contain policies with Federalism implications as that term is defined in Executive Order 13132.

Administrative Procedure Act/Regulatory Flexibility Act

Prior notice and opportunity for public comment are not required by the Administrative Procedure Act or any other law for this rule concerning grants, benefits, and contracts (5 U.S.C. § 553(a)(2)). Because notice and opportunity for comment are not required pursuant to 5 U.S.C. § 553 or any other law, the analytical requirements of the Regulatory Flexibility Act (5 U.S.C. § 601 et seq.) are inapplicable. Therefore, a regulatory flexibility analysis has not been prepared.

Dated: November 24, 2009.
Anthony G. Wilhelm,
Acting Associate Administrator, Office of Telecommunications and Information Applications.

[FR Doc. E9-28738 Filed 12-1-09; 8:45 am]

BILLING CODE 3510-60-S